DEPARTMENT OF COMMERCE

International Trade Administration

[A-570-815]

Sulfanilic Acid from the People's Republic of China: Extension of Time Limit for Final Results of Antidumping Duty Administrative Review

AGENCY: Import Administration, International Trade Administration, Department of Commerce.

EFFECTIVE DATE: September 9, 2002.

FOR FURTHER INFORMATION CONTACT: Holly Hawkins or Sean Carey, AD/CVD Enforcement, Import Administration, International Trade Administration, U.S. Department of Commerce, 14th Street and Constitution Avenue, NW, Washington DC 20230; telephone: (202) 482-0414 or (202) 482-3964, respectively.

SUPPLEMENTARY INFORMATION:

The Applicable Statute

Unless otherwise indicated, all citations to the statute are references to the Tariff Act of 1930, as amended. In addition, unless otherwise indicated, all citations to the Departments's regulations are to the current regulations, codified at 19 CFR part 351 (2001).

Background

On August 27, 2001, the Department of Commerce (the Department) received a request from respondent Zhenxing Chemical Company to conduct an administrative review. The Department also received a request on August 30, 2001 from petitioner, Nation Ford Chemical Company (NFC), to conduct an administrative review of Zhenxing Chemical Company. On October 1, 2001, the Department published a notice of initiation of an administrative review of the antidumping duty order on sulfanilic acid from the People's Republic of China, covering the period August 1, 2000 through July 31, 2001 (67 FR 31770). On May 10, 2002, the Department published its preliminary results of this administrative review (67 FR 31770).

Extension of Time Limits for Final Results

Because of the complexities involved in this review, including the need to analyze new public information on factor valuation timely submitted by the parties since the preliminary results of review, it is not practical to complete this review within the time limits mandated by section 751(a)(3)(A) of the Act. Therefore, in accordance with section 751(a)(3)(A) of the Act, the Department is extending the time limit for the final results of review from September 7, 2002 to November 15, 2002.

This notice is published in accordance with sections 751(a)(2)(B) and 777 (i)(1) of the Act.

Dated: August 29, 2002.
Joe Spetrini,
Deputy Assistant Secretary AD/CVD Enforcement Group III.

[FR Doc. 02-22839 Filed 9-6-02; 8:45 am]

BILLING CODE 3510-DS-S